DEPARTMENT OF COMMERCE

National Oceanic and Atmospheric Administration

[Docket No. 071017603-7604-01]

RIN 0648-XD12

Listing Endangered and Threatened Wildlife and Designating Critical Habitat; 90-day Finding for a Petition to Reclassify the Loggerhead Turtle in the North Pacific Ocean as a Distinct Population Segment with Endangered Status and to Designate Critical Habitat

AGENCY: National Marine Fisheries Service (NMFS), National Oceanic and Atmospheric Administration (NOAA), Commerce.

ACTION: Notice of petition finding; request for information and comments.

SUMMARY: The National Marine Fisheries Service (NMFS), National Oceanic and Atmospheric Administration (NOAA), Department of Commerce, announces the 90-day finding for a petition to reclassify loggerhead turtles (Caretta caretta) in the North Pacific Ocean as a Distinct Population Segment (DPS) with endangered status and designate critical habitat under the Endangered Species Act of 1973, as amended (ESA). The loggerhead is currently listed as threatened throughout its range. We find that the petition presents substantial scientific information indicating that the petitioned action may be warranted.

We are initiating a review of the status of the species to determine whether the petitioned action is warranted and to determine whether any additional changes to the current listing of the loggerhead turtle are warranted. To ensure a comprehensive review, we are soliciting information and comments pertaining to this species from any interested party.

DATES: Written comments and information related to this petition finding must be received [see ADDRESSES] by January 15, 2008.

ADDRESSES: Written comments and information should be addressed to the Chief, Marine Mammal and Sea Turtle Conservation Division, Office of Protected Resources, NMFS, 1315 East-West Highway, Silver Spring, MD 20910. Comments may also be sent via fax to 301-427-2522, or by e-mail to: northpacific.loggerhead@noaa.gov. The petition is available for download and review at http://www.nmfs.noaa.gov/pr/pdfs/fr/petition_north_pacific_logger head.pdf

Comments received will be available for public inspection, by appointment, during normal business hours by calling 301-713-2322.

FOR FURTHER INFORMATION CONTACT: Barbara Schroeder by phone 301-713-2322, fax 301-427-2522, or e-mail barbara.schroeder@noaa.gov; Christina Fahy by phone 562-980-4023, fax 562-980-4027, or e-mail christina.fahy@noaa.gov).

SUPPLEMENTARY INFORMATION:

Background

Section 4(b)(3)(A) of the ESA (16 U.S.C. 1531 et seq.) requires us to make a finding as to whether a petition to list, delist, or reclassify a species presents substantial scientific or commercial information indicating that the petitioned action may be warranted. Our implementing regulations (50 CFR 424.14) define “substantial information” as the amount of information that would lead a reasonable person to believe that the measure proposed in the petition may be warranted. In determining whether substantial information exists, we take into account several factors, including information submitted with, and referenced in, the petition and all other information readily available in our files. To the maximum extent practicable, this finding is to be made within 90 days of the receipt of the petition, and the finding is to be published promptly in the Federal Register. If we find that a petition presents substantial information indicating that the requested action may be warranted, we are also required to conduct a status review of the species. The determination of whether or not the petitioned action is warranted must be made within one year of the receipt of the petition.

Analysis of Petition

On July 16, 2007, we received a petition from the Center for Biological Diversity and the Turtle Island Restoration Network requesting that loggerhead turtles in the North Pacific Ocean be reclassified as a DPS (see Petition Finding for discussion on Distinct Population Segments) with endangered status and that critical habitat be designated.

The petition contains a detailed description of the species' natural history and status, including information on distribution and movements, population structure, behavior, population status and trends, and factors contributing to the current status of the species in the North Pacific Ocean. The petitioners assert that the North Pacific loggerhead is discrete from loggerhead populations found elsewhere due to physical, genetic, physiological, ecological, and behavioral factors, and they provide information they believe supports this assertion. The petitioners further assert that the North Pacific loggerhead population is both biologically and ecologically significant relative to the species. The petitioners maintain that the North Pacific loggerhead nesting population has undergone a marked decline in recent decades, and cite coastal development, bycatch in fisheries, marine pollution, illegal take, and global warming as primary threats to the population. The petitioners provide information on the North Pacific loggerhead relative to the ESA section 4(a)(1) factors and assert that the North Pacific loggerhead population warrants an endangered listing.

Finally, the petitioners request that if the North Pacific loggerhead is not determined to meet the DPS criteria, that loggerheads throughout the Pacific Ocean be designated as a DPS and listed as endangered.

Petition Finding

Based on the above information and criteria specified in 50 CFR 424.14(b)(2), we find the petitioners present substantial scientific and commercial information indicating that a reclassification of the loggerhead in the North Pacific Ocean as a DPS and listing of that DPS with endangered status may be warranted. The ESA defines a “species” as “...any subspecies of fish or wildlife or plants and any distinct population segment of any species of vertebrate fish or wildlife which interbreeds when mature.” NMFS and the U.S. Fish and Wildlife Service (USFWS) published a joint policy defining the phrase “distinct population segment” on February 7, 1996 (61 FR 4722). Three elements are considered in a decision regarding the listing, delisting, or reclassification of a DPS as endangered or threatened under the ESA: discreteness of the population segment in relation to the remainder of the species, significance of the population segment to the species, and conservation status. Under section 4(b)(3) of the ESA, an affirmative 90-day finding requires that we commence a status review on the loggerhead turtle. NMFS and the USFWS recently completed a 5-year review of the loggerhead turtle, as required under Section 4(c)(2) of the Endangered Species Act of 1973, as amended (NMFS and USFWS 2007). This review recommended that a full status review of the loggerhead be conducted in accordance with the DPS policy. We are initiating this review and, once it has been completed, a finding will be made as to whether reclassification of the loggerhead in the North Pacific Ocean, with endangered status, is warranted, warranted but precluded by higher priority listing actions, or not warranted, as required by section 4(b)(3)(B) of the ESA. The review will also consider whether any additional changes to the current threatened listing for the loggerhead are warranted.

There is no critical habitat designated for the loggerhead turtle. The ESA currently requires us to make a critical habitat determination concurrent with listing determinations. The ESA defines “critical habitat” as

“...the specific areas within the geographical area occupied by the species, at the time it is listed... on which are found those physical or biological features (I) essential to the conservation of the species and (II) which may require special management considerations or protection; and...specific areas outside the geographical area occupied by the species at the time it is listed... upon a determination...that such areas are essential for the conservation of the species.”

Section 4(a)(1) Factors and Basis for Determination

Under section 4(a)(1) of the ESA and the implementing regulations at 50 CFR 424.11(c), a species shall be reclassified, if the Secretary of Commerce determines, based on the best scientific and commercial data available after conducting a review of the species' status, that the species is threatened or endangered because of one or a combination of the following: (1) present or threatened destruction, modification, or curtailment of its habitat or range; (2) overutilization for commercial, recreational, scientific, or educational purposes; (3) disease or predation; (4) inadequacy of existing regulatory mechanisms; or (5) other natural or manmade factors affecting its continued existence.

Information Solicited

To ensure that the status review is complete and based on the best available data, we are soliciting information and comments on whether loggerhead turtles in the North Pacific Ocean, or any other area, qualify as a DPS and, if so, whether it should be classified as threatened or endangered based on the above ESA section 4(a)(1) factors. Specifically, we are soliciting information in the following areas relative to loggerheads in the North Pacific and elsewhere: (1) historical and current population status and trends; (2) historical and current distribution; (3) migratory movements and behavior; (4) genetic population structure; (5) current or planned activities that may adversely impact loggerheads; and (6) ongoing efforts to protect loggerheads. We request that all data, information, and comments be accompanied by supporting documentation such as maps, bibliographic references, or reprints of pertinent publications.

All submissions must contain the submitter's name, address, and any association, institution, or business that the person represents. Comments and materials received will be available for public inspection, by appointment, during normal business hours at the above address (see ADDRESSES).

Critical Habitat

We are also requesting information on areas within U.S. jurisdiction that may qualify as critical habitat for loggerhead turtles, both in the North Pacific Ocean and elsewhere within the species' range. Areas that include the physical and biological features essential to the conservation of the species should be identified. Areas outside the present range should also be identified if such areas are essential to the conservation of the species. Essential features include, but are not limited to: (1) space for individual growth and for normal behavior; (2) food, water, air, light, minerals, or other nutritional or physiological requirements; (3) cover or shelter; (4) sites for reproduction and development of offspring; and (5) habitats that are protected from disturbance or are representative of the historical, geographical and ecological distributions of the species (50 CFR 424.12).

Peer Review

For listings, delistings, and reclassifications under the ESA, NMFS and USFWS have a joint policy for peer review of the scientific data (59 FR 34270, July 1, 1994). The intent of the peer review policy is to ensure that listings are based on the best scientific and commercial data available. We are soliciting the names of recognized experts in the field that could serve as peer reviewers for the loggerhead status review. Independent peer reviewers will be selected from the academic and scientific community, applicable tribal and other Native American groups, Federal and state agencies, the private sector, and public interest groups.

References Cited

National Marine Fisheries Service and U.S. Fish and Wildlife Service. 2007. Loggerhead sea turtles (Caretta caretta) 5-year review: summary and evaluation. 65 pp.

Authority: 16 U.S.C. 1531 et seq.

Dated: November 9, 2007.
Samuel D. Rauch III,
Deputy Assistant Administrator for Regulatory Programs, National Marine Fisheries Service.

[FR Doc. 07-5710 Filed 11-13-07; 1:20 pm]

BILLING CODE 3510-22-S